DEPARTMENT OF VETERANS AFFAIRS

Voluntary Services National Advisory Committee; Notice of Meeting

The Department of Veterans Affairs gives notice under public Law 92-463 (Federal Advisory Committee Act) that the Executive Committee to the Department of Veterans Affairs Voluntary Services (VAVS) National Advisory Committee (NAC) will meet October 24-25, 2005, at the John Ascuaga's Nugget, Sparks, Nevada. On October 24 the session will begin at 8:30 a.m. and end at 4:30 p.m. On October 25 the session will begin at 8:30 a.m. and end at 12 noon. the meeting is open to the public.

The NAC consists of sixty-three national organizations and advises the Secretary, through the Under Secretary for Health, on the coordination and promotion of volunteer activities within VA health care facilities. The Executive Committee consists of nineteen representatives from the NAC member organizations and acts as the NAC governing body in the interim period between NAC annual meetings.

Business topics for the October 24 morning session include: review of goals and objectives, review of minutes, Veterans Health Administration update, VAVS update of the Voluntary Service program's progress since the 2005 NAC annual meeting, Parke Board update, review of the 2005 annual meeting evaluations and the VAVS Partner's Treasurer report. The October 24 afternoon business session topics include: the 2006 NAC Annual Meeting plans, workshop and plenary sessions/suggestions. The October 25 morning business session topics include: 2007 NAC Annual Meeting planning, review of recommendations from the 2005 NAC Annual Meeting, subcommittee reports, standard operating procedure revisions, new business and Executive Committee appointments.

No time will be allocated at this meeting for receiving oral presentations from the public. However, interested persons may either attend or file statements with the Committee. Written statements may be filed either before the meeting or within 10 days after the meeting and addressed to : Ms. Laura Balun, Designated Federal Officer, Voluntary Service Office (10C2), Department of Veterans Affairs, 810 Vermont Avenue, NW, Washington, DC 20420. Individuals interested in attending are encouraged to contact Ms. Balun at (202) 273-8952.

Dated: September 19, 2005.
By direction of the Secretary.
E. Philip Riggin,
Committee Management Officer.

[FR Doc. 05-19281 Filed 9-26-05; 8:45 am]

BILLING CODE 8320-01-M